COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds product(s) and service(s) to the Procurement List that will be furnished by nonprofit agencies employing persons who are blind or have other severe disabilities.

DATES: Date added to and deleted from the Procurement List: January 22, 2022.

ADDRESSES: Committee for Purchase From People Who Are Blind or Severely Disabled, 1401 S Clark Street, Suite 715, Arlington, Virginia, 22202-4149.

FOR FURTHER INFORMATION CONTACT: Michael R. Jurkowski, Telephone: (703) 785-6404, or email CMTEFedReg@AbilityOne.gov.

SUPPLEMENTARY INFORMATION:

Additions

On 6/25/2021, 8/20/2021, 10/1/2021, and 10/22/2021, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s): 7510-00-134-8179—Binder, Awards Certificate, Silver USAF Seal, Blue, 14½″ x 11½″

Designated Source of Supply: Dallas Lighthouse for the Blind, Inc., Dallas, TX

Contracting Activity: FEDERAL ACQUISITION SERVICE, GSA/FAS ADMIN SVCS ACQUISITION BR(2

Distribution: A-List

Mandatory For: Total Government Requirement

NSN(s)—Product Name(s): 5110-00-510-4505—Riffler Set, Die Sinker's, 12PC

Designated Source of Supply: South Texas Lighthouse for the Blind, Corpus Christi, TX

Contracting Activity: FEDERAL ACQUISITION SERVICE, FAS HEARTLAND REGIONAL ADMINISTRATO

Distribution: B-List

Mandatory For: Broad Government Requirement

NSN(s)—Product Name(s):

6135-01-554-4281—Battery, Non-rechargeable, 9.0V Lithium

6135-01-616-2203—Battery, Non-rechargeable, 7.5V Alkaline

Designated Source of Supply: Eastern Carolina Vocational Center, Inc., Greenville, NC

Contracting Activity: DEFENSE LOGISTICS AGENCY, DLA LAND AND MARITIME

Distribution: C-List

Mandatory For: 100% of the requirement of the Department of Defense

NSN(s)—Product Name(s):

6515-01-656-4831—Tourniquet, Tactical Pneumatic 2 Inch

6515-01-656-6223—Tourniquet, Tactical Pneumatic, 3 Inch

Designated Source of Supply: Alphapointe, Kansas City, MO

Contracting Activity: DEFENSE LOGISTICS AGENCY, DLA TROOP SUPPORT

Mandatory For: 100% of the requirement of the Department of Defense

Distribution: C-List

Service(s)

Service Type: Facility Support Services

Mandatory for: National Park Service, National Capital Region Office Headquarters, Washington, DC

Designated Source of Supply: Portco, Inc., Portsmouth, VA

Contracting Activity: NATIONAL PARK SERVICE, NCR REGIONAL CONTRACTING(30000)

Service Type: Custodial Service

Mandatory for: FAA, Multiple Locations, Key West, FL

Designated Source of Supply: Mavagi Enterprises, Inc., San Antonio, TX

Contracting Activity: FEDERAL AVIATION ADMINISTRATION, 697DCK REGIONAL ACQUISITIONS SVCS

Michael R. Jurkowski,
Acting Director, Business Operations.

[FR Doc. 2021-27905 Filed 12-22-21; 8:45 am]

BILLING CODE 6353-01-P